DEPARTMENT OF LABOR

Employment and Training Administration

[TA-W-72,071]

Laird Technologies, Earth City, MO; Notice of Termination of Investigation

Pursuant to Section 221 of the Trade Act of 1974, as amended, an investigation was initiated in response to a petition filed on August 19, 2009, by a company official on behalf of workers of Laird Technologies, Earth City, Missouri.

The petitioner has requested that the petition be withdrawn. Accordingly, the investigation has been terminated.

Signed at Washington, DC, this 4th day of September 2009.
Richard Church,
Certifying Officer, Division of Trade Adjustment Assistance.

[FR Doc. E9-29156 Filed 12-7-09; 8:45 am]

BILLING CODE 4510-FN-P